DEPARTMENT OF COMMERCE

National Oceanic and Atmospheric Administration

[I.D. 062204B]

New England Fishery Management Council; Public Meeting

AGENCY: National Marine Fisheries Service (NMFS), National Oceanic and Atmospheric Administration (NOAA), Commerce.

ACTION: Notice of a public meeting.

SUMMARY: The New England Fishery Management Council (Council) will hold a 3-day Council meeting on July 13-15, 2004, to consider actions affecting New England fisheries in the exclusive economic zone (EEZ).

DATES: The meeting will be held on Tuesday, July 13, 2004 beginning at 9 a.m. and on Wednesday and Thursday, July 14 and 15, beginning at 8:30 a.m.

ADDRESSES: The meeting will be held at the Holiday Inn by the Bay, 88 Spring Street, Portland, ME 04101; telephone: (207)775-2311.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, July 13, 2004

Following introductions, the Council will further discuss improvements to the Council process and alternative approaches to management problems. The Herring Committee, its Plan Development Team and Advisory Panel is then scheduled to report on recommendations for herring fishery specifications for the 2005 fishing year. The Council is scheduled to approve the specifications at this meeting. The day will conclude with possible reconsideration of the approach adopted to establish limited access qualification criteria now under consideration for inclusion Amendment 1 to the Herring Fishery Management Plan (FMP). The element to be discussed relates only to the proposed criteria that requires vessels to document historical landings from one or more specific management areas.

Wednesday, July 14, 2004

During the Wednesday morning session Council will review issues identified for inclusion in Framework Adjustment 40B to the Northeast Multispecies FMP. It also will receive a report from its Scientific and Statistical Committee (SSC) Chairman with SSC advice how to use stock assessment advice in light of changing assessments and retrospective patterns in fishing mortality and biomass estimates. The afternoon period will include an open public comment period during which the audience may address issues that are relevant to Council business but not listed on the meeting agenda. A report by the Stellwagen Bank National Marine Sanctuary Superintendent will follow and include an update on the sanctuary's management plan review process which is currently underway. The Northeast Fisheries Science Center will provide a update new developments related to its bottom trawl surveys.

Thursday, July 15, 2004

The Habitat/Marine Protected Area Committee will summarize and review comments received during the formal scoping period for Essential Fish Habitat Omnibus Amendment 2. Following this discussion the Council will consider approving goals and objectives for the amendment based on the committee's recommendations. Reports on recent activities will be provided by the Council Chairman and Executive Director, the NMFS Regional Administrator, Northeast Fisheries Science Center and Mid-Atlantic Fishery Management Council liaisons, NOAA General Counsel and representatives of the U.S. Coast Guard, NMFS Enforcement and the Atlantic States Marine Fisheries Commission. The last item on the agenda will be a presentation of the advisory report from the 39th Northeast Regional Stock Assessment Workshop (SAW). The briefing will include information on the status of sea scallops and black bass and a discussion of the new SAW stock assessment model. Any other outstanding business will be addressed at the end of the day.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: June 23, 2004.
Alan D. Risenhoover,
Acting Director, Office of Sustainable Fisheries, National Marine Fisheries Service.

[FR Doc. E4-1429 Filed 6-25-04; 8:45 am]

BILLING CODE 3510-22-S